FEDERAL COMMUNICATIONS COMMISSION

[WC Docket No. 17-97; DA 21-1103; FR ID 50347]

Call Authentication Trust Anchor

AGENCY: Federal Communications Commission.

ACTION: Notice and request for comments.

SUMMARY: In this document, the Wireline Competition Bureau (Bureau) addresses a statutory obligation under the Pallone-Thune Telephone Robocall Abuse Criminal Enforcement and Deterrence (TRACED) Act relating to the Commission's caller ID authentication rules. Specifically, the Bureau seeks comment on STIR/SHAKEN implementation extensions granted by the Commission and associated burdens and barriers to the implementation of STIR/SHAKEN.

DATES: Comments are due on or before November 12, 2021; reply comments are due on or before November 26, 2021.

ADDRESSES: Pursuant to sections 1.415 and 1.419 of the Commission's rules, 47 CFR 1.415, 1.419, interested parties may file comments and reply comments on or before the dates indicated in this document. Comments and reply comments may be filed using the Commission's Electronic Comment Filing System (ECFS). See Electronic Filing of Documents in Rulemaking Proceedings, 63 FR 24121 (1998). Interested parties may file comments or reply comments, identified by WC Docket No. 17-97 by any of the following methods:

• Electronic Filers: Comments may be filed electronically using the internet by accessing ECFS: https://www.fcc.gov/ecfs/.

• Paper Filers: Parties who choose to file by paper must file an original and one copy of each filing.

• Filings can be sent by commercial overnight courier, or by first-class or overnight U.S. Postal Service mail. All filings must be addressed to the Commission's Secretary, Office of the Secretary, Federal Communications Commission.

• Commercial overnight mail (other than U.S. Postal Service Express Mail and Priority Mail) must be sent to 9050 Junction Drive, Annapolis Junction, MD 20701.

• U.S. Postal Service first-class, Express, and Priority mail must be addressed to 45 L Street NE, Washington, DC 20554.

• Effective March 19, 2020, and until further notice, the Commission no longer accepts any hand or messenger delivered filings. This is a temporary measure taken to help protect the health and safety of individuals, and to mitigate the transmission of COVID-19. See FCC Announces Closure of FCC Headquarters Open Window and Change in Hand-Delivery Policy, Public Notice, 35 FCC Rcd 2788 (March 19, 2020), https://www.fcc.gov/document/fcc-closes-headquarters-open-window-and-changes-hand-delivery-policy.

Ex Parte Rules. This proceeding shall be treated as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must: (1) List all persons attending or otherwise participating in the meeting at which the ex parte presentation was made; and (2) summarize all data presented and arguments made during the presentation. If the presentation consisted in whole or in part of the presentation of data or arguments already reflected in the presenters written comments, memoranda, or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with section 1.1206(b) of the Commission's rules. In proceedings governed by section 1.49(f) of the rules or for which the Commission has made available a method of electronic filing, written ex parte presentations and memoranda summarizing oral ex parte presentations, and all attachments thereto, must be filed through the electronic comment filing system available for that proceeding, and must be filed in their native format (e.g., .doc, .xml., .ppt, searchable .pdf). Participants in this proceeding should familiarize themselves with the Commission's ex parte rules.

FOR FURTHER INFORMATION CONTACT: For further information, please contact Michael Nemcik, Competition Policy Division, Wireline Competition Bureau, at (202) 418-2343 or by email at Michael.Nemcik@fcc.gov.

SUPPLEMENTARY INFORMATION: This is a summary of the Bureau's Public Notice seeking comment on STIR/SHAKEN implementation extensions granted by the Commission and associated burdens and barriers to the implementation of STIR/SHAKEN in WC Docket No. 17-97, DA 21-1103, released on September 3, 2021. The full text of this document is available for public inspection at the following internet address: https://docs.fcc.gov/public/attachments/DA-21-1103A1.pdf. To request materials in accessible formats for people with disabilities (e.g. braille, large print, electronic files, audio format, etc.), send an email to fcc504@fcc.gov or call the Consumer & Governmental Affairs Bureau at (202) 418-0530 (voice), or (202) 418-0432 (TTY).

Synopsis

When Congress directed the Commission to mandate implementation of STIR/SHAKEN in the TRACED Act, it also required the Commission to assess burdens and barriers to implementation, and gave the Commission discretion to extend compliance with the implementation mandate upon a public finding of undue hardship. The Commission performed this assessment and granted three categorical extensions of the STIR/SHAKEN mandate on the basis of undue hardship: (1) Small voice service providers; (2) voice service providers unable to obtain the “token” necessary to participate in STIR/SHAKEN; and (3) services scheduled for section 214 discontinuance.

The TRACED Act further requires the Commission to assess burdens and barriers to implementation “as appropriate” after that initial assessment, and directs the Commission to, “not less frequently than annually after the first [extension] is granted,” reevaluate and potentially revise any extensions granted on the basis of undue hardship. It requires the Commission to issue a public notice explaining “why such [extension] remains necessary” and “when the Commission expects to achieve the goal of full participation” in caller ID authentication. To comply with these obligations in the TRACED Act, the Commission directed the Bureau to annually assess burdens and barriers to implementation and reevaluate the Commission's granted extensions and revise or extend them as necessary. In its directions to the Bureau, the Commission permitted the Bureau to further extend an extension to which voice service providers are already subject, but prohibited us from terminating an extension prior to the extension's originally set end date. The Commission did not permit us to grant extensions to any voice service providers or services not already subject to one; should we further extend a granted extension, we are permitted to decrease, but not expand, the scope of entities entitled to that extension based on our assessment of burdens and barriers.

We now seek comment in turn on the Commission's granted extensions and associated burdens and barriers to the implementation of STIR/SHAKEN.

Small Voice Service Provider Extension. We seek comment on the Commission's extension for small voice service providers. The Commission granted a two-year extension for small voice service providers, defined as “a provider that has 100,000 or fewer voice service subscriber lines.” The Commission found that this extension was appropriate because small voice service providers may face substantial costs to implement STIR/SHAKEN—in addition to resource constraints—and that they confront unique equipment availability issues. In May, the Commission released a Third Further Notice of Proposed Rulemaking proposing to shorten the extension for small voice service providers that originate an especially large number of calls by one year. It did so due to new evidence indicating that certain small voice service providers are originating a high and increasing share of illegal robocalls relative to their subscriber base.

We seek comment on burdens and barriers to small voice service provider implementation and whether we should revise or extend their extension. Have the burdens or barriers affecting small providers that were originally discussed in the Second Caller ID Authentication Report and Order changed since adoption, and if so how? Have new burdens or barriers to implementation emerged that affect small providers? Should the Bureau extend the extension beyond its current June 30, 2023 date? If so, why, and is there a reason to extend it at this time and not in next year's annual review? Alternatively, is the extension no longer necessary and should we recommend that the Commission terminate it? If so, why? How should the Commission's recent Third Further Notice and any subsequent order inform or impact our reevaluation of the small voice service provider extension? How close are small voice service providers to “full participation,” and what steps, if any, could the Commission take to promote that goal?

Extension for Voice Service Providers That Cannot Obtain a SPC Token. We seek comment on the Commission's extension for voice service providers that cannot obtain the Service Provider Code (SPC) token necessary to participate in STIR/SHAKEN. The Commission granted voice service providers that are incapable of obtaining a SPC token due to Governance Authority policy an extension until they are capable of obtaining said token. The Commission granted this extension because “it is impossible for a voice service provider to participate in STIR/SHAKEN without access to [a SPC token] and because some voice service providers are unable to obtain [one] at this time.”

In May, the Governance Authority revised the STI-GA Token Access Policy to enable token access by some voice service providers previously unable to receive a token. How has this change impacted the barrier presented by an inability to access a SPC token? Has it resolved the token access barrier? Does this change affect the need for the implementation extension and, if so, how? Does the extension remain necessary? Conversely, is this extension no longer necessary and should we recommend it be terminated or revised by the Commission going forward? If so, why? Finally, how does token access affect the TRACED Act goal of full participation in caller ID authentication? Are there steps the Commission could take regarding token access to better promote full participation?

Extension for Services Scheduled for Section 214 Discontinuance. We seek comment on the Commission's extension for services scheduled for section 214 discontinuance. The Commission granted an extension to services which are subject to a pending application for permanent discontinuance of service filed as of June 30, 2021 for one year, until June 30, 2022. Under this extension, a voice service provider has until June 30, 2022, to either discontinue the service subject to the application or, alternatively, implement STIR/SHAKEN on that service. The Commission granted this extension to “obviat[e] the need to upgrade components of a voice service provider's network that will be sunset.” Is there any reason we should lengthen this extension and give affected voice service providers additional time, beyond June 30, 2022, to either discontinue the service or implement STIR/SHAKEN? Is it reasonable for a voice service provider to take longer than one year to complete discontinuance and, if so, how much additional time is appropriate? Alternatively, is a protracted discontinuance evidence of “bad faith” and should we decline to grant any additional time before a voice service provider is obligated to choose between discontinuance and STIR/SHAKEN implementation? To account for bad faith filers while acknowledging potential reasonable delays, should we lengthen the extension but limit the scope of entities entitled to any further extension? Do services scheduled for 214 discontinuance meaningfully impact the goal of full participation in caller ID authentication?

Federal Communications Commission.
Pamela Arluk,
Chief, Competition Policy Division.

[FR Doc. 2021-22106 Filed 10-8-21; 8:45 am]

BILLING CODE 6712-01-P